DEPARTMENT OF HOMELAND SECURITY

Border and Transportation Security Directorate; Submission for OMB Emergency Processing for United States Visitor and Immigrant Status Indicator Technology Program (US-VISIT) Exit Pilot Questionnaire

AGENCY: Border and Transportation Security Directorate, DHS.

ACTION: Notice, request for comments.

SUMMARY: The Department of Homeland Security (DHS) has submitted to OMB 1600-NEW information collection request (ICR) utilizing emergency review procedures, to the Office of Management and Budget (OMB) for review and clearance in accordance with the Paperwork Reduction Act of 1995. DHS is seeking OMB approval by July 30, 2004. A copy of this ICR, with applicable supporting documentation, may be obtained by calling the Department of Homeland Security, Yvonne Pollard at 202-692-4221 (this is not a toll free number).

ADDRESSES: Written comments and/or suggestions for the items contained in this notice should be directed to the Office of Information and Regulatory Affairs, Attn: OMB Desk Officer for Homeland Security, Office of Management Budget, Room 10235, Washington, DC 20503, 202-395-7316.

FOR FURTHER INFORMATION CONTACT: Steve Yonkers at 202-298-5200 (this is not a toll free number).

SUPPLEMENTARY INFORMATION: This process is conducted in accordance with 5 CFR 1320.13. A copy of this ICR, with applicable supporting documentation, may be obtained by calling the Paperwork Reduction Act Contact listed. The Office of Management and Budget is particularly interested in comments which:

(1) Evaluate whether the collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Border and Transportation Security Directorate, Department of Homeland Security.

Title: United States Visitor and Immigrant Status Indicator Technology Program (US-VISIT)—Exit Pilot Questionnaire.

OMB Number: 1600-NEW.

Frequency: On occasion.

Affected Public: Individuals or households, business or other for-profit and not-for-profit institutions.

Estimated Number of Respondents: 7,500.

Estimated Time per Respondent: 10 minutes.

Estimated Burden Hours: 1,275.

Total Burden Cost (Capital/Startup): none.

Total Burden Cost (Operating/Maintaining): none.

Description: The US-VISIT Exit Pilot Questionnaire provides travelers, transportation crew members and transportation carriers the opportunity to provide feedback on US-VISIT Exit program procedures.

Dated: July 19, 2004.
Steve Cooper,
Chief Information Officer.

[FR Doc. 04-16897 Filed 7-23-04; 8:45 am]

BILLING CODE 4410-10-P